NATIONAL AERONAUTICS AND SPACE ADMINISTRATION

[Notice (02-078)]

NASA Advisory Council; Meeting

AGENCY: National Aeronautics and Space Administration.

ACTION: Notice of meeting.

SUMMARY: In accordance with the Federal Advisory Committee Act, Public Law 92-463, as amended, the National Aeronautics and Space Administration announces a meeting of the NASA Advisory Council.

DATES: Wednesday, July 10, 2002, 9 a.m. to Noon.

ADDRESSES: National Aeronautics and Space Administration, James F. Webb Memorial Auditorium (West Lobby), 300 E Street, SW., Washington, DC 20546.

FOR FURTHER INFORMATION CONTACT: Dr. Donald Miller, Code IC, National Aeronautics and Space Administration, Washington, DC 20546, 202/358-1647.

SUPPLEMENTARY INFORMATION: The meeting will be conducted by teleconference in a room accessible to the public. The agenda for the meeting is for the Research Maximization Prioritization (REMAP) Task Force to present its findings and recommendations to the NAC for its deliberations prior to submission of the report to the NASA Administrator.

Dated: June 21, 2002.
Sylvia K. Kraemer,
Advisory Committee Management Officer, National Aeronautics and Space Administration.

[FR Doc. 02-16315 Filed 6-27-02; 8:45 am]

BILLING CODE 7510-01-P